NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 17, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Application Details

1. Applicant: Ted Cheeseman, Permit Application: 2014-018, Cheeseman's Ecology Safaris, Santa Cruz, CA

Activity for Which Permit Is Requested

Take (Salvage); The applicant requests a permit to collect feathers and small tissue samples from up to 20 Emperor penguin carcasses on Snow Hill Island. The applicant is working in collaboration with a UK scientist who will receive and analyze the samples to better understand emperor penguin population structure, migration and demographic processes. Only carcasses that are a sufficient distance away from the colony would be selected for sampling. This would ensure that no live animals are disturbed during sampling.

Location

Snow Hill Island Emperor Penguin Colony.

Dates

October 14, 2013 to October 31, 2013.

Nadene G. Kennedy,
Polar Coordination Specialist, Division of Polar Programs.

[FR Doc. 2013-22568 Filed 9-16-13; 8:45 am]

BILLING CODE 7555-01-P